DEPARTMENT OF TRANSPORTATION

Federal Railroad Administration

[Docket No. FRA-2010-0036]

Southeastern Pennsylvania Transportation Authority's Request for Positive Train Control Safety Plan Approval and System Certification

AGENCY: Federal Railroad Administration (FRA), United States Department of Transportation (DOT).

ACTION: Notice of availability and request for comments.

SUMMARY: This document provides the public with notice that the Southeastern Pennsylvania Transportation Authority (SEPTA) submitted to FRA its Positive Train Control Safety Plan (PTCSP) Revision 0.7, dated August 31, 2015, under a cover letter dated October 16, 2015. SEPTA requests that FRA approve its PTCSP and issue a PTC System Certification for SEPTA's Advanced Civil Speed Enforcement System II (ACSES II), under 49 CFR 236.1009 and 236.1015.

DATES: FRA will consider communications received by April 1, 2016 before taking final action on the PTCSP. Comments received after that date will be considered as far as practicable.

ADDRESSES: All communications concerning this proceeding should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

FOR FURTHER INFORMATION CONTACT: Dr. Mark Hartong, P.E., Senior Scientific Technical Advisor at (202) 493-1332, Mark.Hartong@dot.gov; or Mr. David Blackmore, Railroad Safety Program Manager for Advanced Technology at (312) 835-3903, David.Blackmore@dot.gov.

SUPPLEMENTARY INFORMATION: In its PTCSP, SEPTA asserts that its ACSES II is designed as a vital overlay PTC system as defined in 49 CFR 236.1015(e)(2). The PTCSP describes SEPTA's ACSES II implementation and the associated ACSES II safety processes, safety analyses, and test, validation, and verification processes used during development of ACSES II. The PTCSP also contains SEPTA's operational and support requirements and procedures. SEPTA's PTCSP and the accompanying request for approval and system certification are available for review online at www.regulations.gov (Docket No. FRA-2010-0036) and in person at DOT's Docket Operations Facility, 1200 New Jersey Avenue SE., W12-140, Washington, DC 20590. The Docket Operations Facility is open from 9 a.m. to 5 p.m., Monday through Friday, except Federal Holidays.

Interested parties are invited to comment on the PTCSP by submitting written comments or data. During its review of the PTCSP, FRA will consider any comments or data submitted. However, FRA may elect not to respond to any particular comment and, under 49 CFR 236.1009(d)(3), FRA maintains the authority to approve or disapprove the PTCSP at its sole discretion. FRA does not anticipate scheduling a public hearing regarding SEPTA's PTCSP because the circumstances do not appear to warrant a hearing. If any interested party desires an opportunity for oral comment, the party should notify FRA in writing before the end of the comment period and specify the basis for his or her request.

Privacy Act Notice

Anyone is able to search the electronic form of any written communications and comments received into any of our dockets by the name of the individual submitting the comment (or signing the document, if submitted on behalf of an association, business, labor union, etc.). In accordance with 49 CFR 211.3, FRA solicits comments from the public to better inform its decisions. DOT posts these comments, without edit, including any personal information the commenter provides, to www.regulations.gov, as described in the system of records notice (DOT/ALL-14 FDMS), which can be reviewed at www.dot.gov/privacy. See http://www.regulations.gov/#!privacyNotice for the privacy notice of regulations.gov.

Issued in Washington, DC, on February 26, 2016.
Robert C. Lauby,
Associate Administrator for Railroad Safety Chief Safety Officer.

[FR Doc. 2016-04580 Filed 3-1-16; 8:45 am]

BILLING CODE 4910-06-P